DEPARTMENT OF THE INTERIOR

National Park Service

[2253-665]

Notice of Intent To Repatriate a Cultural Item: California Department of Parks and Recreation, Sacramento, CA

AGENCY: National Park Service, Interior.

ACTION: Notice.

SUMMARY: The California Department of Parks and Recreation, in consultation with the appropriate Indian tribes, has determined that an item meets the definition of unassociated funerary object and repatriation to the Indian tribes stated below may occur if no additional claimants come forward. Representatives of any Indian tribe that believes itself to be culturally affiliated with the unassociated funerary object may contact the California Department of Parks and Recreation.

DATES: Representatives of any Indian tribe that believes it has a cultural affiliation with the unassociated funerary object should contact the California Department of Parks and Recreation at the address below by September 7, 2011.

ADDRESSES: Rebecca Carruthers, NAGPRA Coordinator, California Department of Parks and Recreation, 1416 9th St., Room 902, Sacramento, CA 95814, telephone (916) 215-5018.

SUPPLEMENTARY INFORMATION: Notice is here given in accordance with the Native American Graves Protection and Repatriation Act (NAGPRA), 25 U.S.C. 3005, of the intent to repatriate a cultural item in the possession of the California Department of Parks and Recreation, Sacramento, CA, that meets the definition of unassociated funerary object under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Item

At an unknown date, a cremation, representing one individual, and one stone bead were likely removed from Site CA-SAC-16, also known as the Bennett Mound, Sacramento County, CA. Subsequently, they became part of the collection at the California Department of Parks and Recreation. There is no specific excavation or donor information listed. However, a 1986 inventory of the CA-SAC-16 objects has a tag that reads: “Remains of cremation burial from Bennett Mound, Sacramento Valley.” Based on this record, it is reasonably believed that the cremation and object were removed from Site CA-SAC-16. Currently, the cremated individual is missing from the collection. Therefore, the stone bead now meets the definition of an unassociated funerary object.

Site CA-SAC-16 has been excavated numerous times. The first documented excavation was by Anthony Zallio in 1923. In 1926 to 1927, Benjamin W. Hathaway excavated the site. Sacramento Junior College excavated from July to November 1933, and again in 1936 to 1937. Later excavations were conducted by Sacramento State College in 1953. Between 1966 and 1971, the American River College excavated under the direction of Charles Gebhardt.

Site CA-SAC-16 was occupied from the Middle Horizon (circa 1000 B.C.) to historic contact. Archeologists believe that the Penutian-speaking Maidu and Miwok are descended from what have been identified as the Windmiller people who occupied the Central Valley of California from 3,000 to 4,000 years ago. No lineal descendant has been identified. Geographic affiliation is consistent with the historically documented use of the area by the Nisenan (Southern Maidu) and the Plains Miwok. The determination that this collection could be affiliated with either the historic Nisenan or the Plains Miwok is based on the movement of both groups near the borders of what is now identified as their historic territories.

Determinations Made by the California Department of Parks and Recreation

Officials of the California Department of Parks and Recreation have determined that:

• Pursuant to 25 U.S.C. 3001(3)(B) the one cultural item described above is reasonably believed to have been placed with or near individual human remains at the time of death or later as part of the death rite or ceremony and is believed, by a preponderance of the evidence, to have been removed from a specific burial site of a Native American individual.

• Pursuant to 25 U.S.C. 3001(2), there is a relationship of shared group identity that can be reasonably traced between the unassociated funerary object and the Buena Vista Rancheria of Me-Wuk Indians of California; Cortina Indian Rancheria of Wintun Indians of California; Ione Band of Miwok Indians of California; Shingle Springs Band of Miwok Indians, Shingle Springs Rancheria (Verona Tract), California; United Auburn Indian Community of the Auburn Rancheria of California; Wilton Rancheria, California; and Yocha Dehe Wintun Nation, California (hereinafter referred to as “The Tribes”).

Additional Requestors and Disposition

Representatives of any Indian tribe that believes itself to be culturally affiliated with the unassociated funerary object should contact Rebecca Carruthers, NAGPRA Coordinator, California Department of Parks and Recreation, 1416 9th St., Room 902, Sacramento, CA 95814, telephone (916) 215-5018, before September 7, 2011. Repatriation of the unassociated funerary object to The Tribes may proceed after that date if no additional claimants come forward.

The California Department of Parks and Recreation is responsible for notifying The Tribes that this notice has been published.

Dated: August 2, 2011.
Sherry Hutt,
Manager, National NAGPRA Program.

[FR Doc. 2011-19994 Filed 8-5-11; 8:45 am]

BILLING CODE 4312-50-P